DEPARTMENT OF HEALTH AND HUMAN SERVICES

National Institutes of Health

Chairpersons, Boards of Scientific Counselors for Institutes and Centers at the National Institutes of Health, Notice of Meeting

Notice is hereby given of a meeting scheduled by the Deputy Director for Intramural Research at the National Institutes of Health (NIH) with the Chairpersons of the Boards of Scientific Counselors. The Boards of Scientific Counselors are advisory groups to the Scientific Directors of the Intramural Research Programs at the NIH. This meeting will take place on March 2, 2012, from 10 am to 2 pm, at the NIH, 1 Center Drive, Bethesda, MD, Building 1, Room 151. The meeting will include a discussion of policies and procedures that apply to the regular review of NIH intramural scientists and their work.

The meeting will be open to the public, with attendance limited to space available. Individuals who plan to attend and need special assistance, such as sign language interpretation or other reasonable accommodations, should contact Mr. Joe Kleinman at the Office of Intramural Research, NIH, Building 1, Room 160, Tel. (301) 496-1921, Fax (301) 402-4273, or email kleinmanj@mail.nih.gov in advance of the meeting.

Dated: February 16, 2012.
Lawrence Tabak,
Deputy Director, NIH.

[FR Doc. 2012-4210 Filed 2-22-12; 8:45 am]

BILLING CODE 4140-01-P